DEPARTMENT OF HEALTH AND HUMAN SERVICES

Centers for Disease Control and Prevention

[60-Day-08-0691]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

State Medicaid Tobacco Coverage Survey (OMB No. 0920-0691)—Reinstatement—National Center for Chronic Disease Prevention and Control (NCCDPHP), Centers for Disease Control and Prevention (CDC).

Background and Brief Description

Tobacco use remains the leading preventable cause of death in the United States despite the availability of evidence-based treatments for tobacco dependence, which include counseling and FDA-approved pharmacotherapies. To increase both the use of treatment by smokers attempting to quit and the number of smokers who quit successfully, the Guide to Community Preventive Services recommends reducing the out-of-pocket cost of effective tobacco-dependence treatments, and the Public Health Service (PHS) Clinical Practice Guideline supports expanded insurance coverage for tobacco-dependence treatment.

Medicaid recipients have approximately 50% greater smoking prevalence than the overall U.S. adult population, and they are disproportionately affected by tobacco-related disease and disability. In 2000, approximately 32 million low-income persons in the United States received their health insurance coverage through federally funded State Medicaid programs, and approximately 11.5 million (36%) of these persons smoked. Substantial action to improve coverage of tobacco-dependence treatments through Medicaid will be needed if the United States is to achieve the 2010 National Health Objective of 12% smoking prevalence among adults.

The amount and type of coverage for tobacco-dependence treatment offered by Medicaid has been collected for 1998, 2000, 2001, 2002, 2003, 2005, 2006, and 2007. Surveys have been funded by the Robert Wood Johnson Foundation (RWJF) (1998, 2000-2003) and the Centers for Disease Control and Prevention (CDC) (2005-2007) (OMB No. 0920-0691, expiration date 8/31/2008). The most recent analysis of these information collections demonstrated that in 2006, 39 states provided coverage for some FDA-approved medications for the general Medicaid population; however, only 17 states provided some form of coverage for counseling and only seven states covered all FDA-approved medications and at least one form of counseling for all enrollees. Some progress has been made in that the number of states offering no benefits decreased from 15 in 2002 to eight in 2006.

CDC plans to request reinstatement of OMB approval to collect similar information about Medicaid coverage of tobacco-dependence treatments during the years 2008-2010. Respondents will be Medicaid directors in all 50 states and the District of Columbia. To minimize burden, each respondent will receive an electronic copy of the survey pre-filled with the previous year's results. Respondents will only be asked to record changes that occurred since the time of the previous submission. In addition, respondents will be asked to answer new questions pertaining to the recommendations made in the updated PHS clinical practice guideline issued in May of 2008 regarding coverage for combination therapies, smokeless tobacco use, and their familiarity with and use of the 2000 PHS guideline. The minor changes to be incorporated in the revised survey instrument are not expected to have a significant impact on the overall burden estimate. As in previous years, each respondent will also attach a copy of the state's Medicaid coverage plan to their completed survey, in order to assist the research team with the interpretation of responses.

The information to be collected will allow CDC to continue monitoring compliance with the most recent PHS recommendations and the progress of State Medicaid Programs toward the 2010 National Health Objectives and Healthy People 2010 goals.

There are no costs to respondents except the time to complete the survey.

Estimated Annualized Burden Hours
Respondents | No. of respondents | No. of responses per respondent | Average burden per response (in hours) | Total burden (in hours)
State Medicaid Programs | 51 | 1 | 0.5 | 26
Total |  |  |  | 26

Dated: September 16, 2008.
Maryam I. Daneshvar,
Acting Reports Clearance Officer, Centers for Disease Control and Prevention.

[FR Doc. E8-22594 Filed 9-24-08; 8:45 am]

BILLING CODE 4163-18-P